DEPARTMENT OF ENERGY

Federal Energy Regulatory Commission

[Docket No. RM05-7-000 and AD04-13-000]

Potential New Wholesale Transmission Services; Assessing the State of Wind Energy in Wholesale Electricity Markets; Notice of Final Agenda for Technical Workshop

March 10, 2005.

As announced in the Notice of Technical Workshop issued on February 1, 2005, and March 2, 2005, the staffs of Bonneville Power Administration (BPA) and the Western Electricity Coordinating Council (WECC) will participate with the staff of the Federal Energy Regulatory Commission (FERC) at a workshop on March 16—17, 2005. The workshop will be held at the Doubletree Hotel & Executive Meeting Center Portland-Lloyd Center, 1000 NE Multnomah, Portland, Oregon 97232. The workshop is scheduled to begin at 9 a.m. and end at approximately 5 p.m. (PST) each day.

The goal of the workshop is to work with market participants to develop clear definitions for additional wholesale electric transmission services, e.g., conditional firm transmission service, develop applicable pro forma tariff language that could be included in public utilities' open access transmission tariffs and address attendant issues.

Attachment A of this Notice contains the final agenda for the workshop. Attachment B contains a table prepared by Commission staff that identifies and briefly describes the new transmission services proposed by other entities. Attachment C contains a proposal for a BPA “Conditional-Firm Product.” Panelists are strongly encouraged to coordinate among themselves prior to the workshop to minimize overlap in the information presented at the workshop by using the information attached to this Notice.

The Commission will solicit comments related to the workshop to be filed in the captioned dockets by April 13, 2005. The comments will be available for review in the Commission's e-Library. The public will have the opportunity to file reply comments in response to these comments by April 29, 2005.

The conference workshop is open for the public to attend, and preregistration is not required; on-site attendees may simply register on the day of the event.

Capitol Connection offers the opportunity for remote listening of the conference via the Internet or a Phone Bridge Connection for a fee. Interested persons should make arrangements as soon as possible by visiting the Capitol Connection Web site at http://www.capitolconnection.gmu.edu and clicking on “FERC.” If you have any questions contact David Reininger or Julia Morelli at the Capitol Connection (703-993-3100).

For more information about the conference, please contact Jignasa Gadani at 202-502-8608, jignasa.gadani@ferc.gov.

Magalie R. Salas,
Secretary.

[FR Doc. E5-1145 Filed 3-15-05; 8:45 am]

BILLING CODE 6717-01-P